DEPARTMENT OF TRANSPORTATION

Federal Aviation Administration

14 CFR Part 71

[Docket No. FAA-2011-1407; Airspace Docket No. 11-AGL-25]

RIN 2120-AA66

Modification of Area Navigation (RNAV) Route Q-62; Northeast United States

AGENCY: Federal Aviation Administration (FAA), DOT.

ACTION: Final rule.

SUMMARY: This action modifies area navigation (RNAV) route Q-62 by extending it further west and incorporating two additional navigation fixes. The route extension links two RNAV Standard Terminal Arrival Routes (STARs) serving the Chicago O'Hare International Airport, IL, terminal area with the high altitude route. The FAA is taking this action to increase National Airspace System (NAS) efficiency and enhance flight safety as aircraft transition from the en route airway structure to the terminal area airspace phase of flight.

DATES: Effective date 0901 UTC, November 15, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

On Monday, February 6, 2012, the FAA published in the Federal Register a notice of proposed rulemaking to modify RNAV route Q-62 in Northeast United States by extending it further west (77 FR 5733). Interested parties were invited to participate in this rulemaking proceeding by submitting written comments on this proposal to the FAA. No comments were received.

The Rule

The FAA is amending Title 14, Code of Federal Regulations (14 CFR) part 71 by extending high altitude RNAV route Q-62 to the west to include the WATSN and DAIFE fixes. This action links the WATSN and HALIE RNAV STARs serving Chicago O'Hare International Airport, IL, with the high altitude route and establishes a seamless transition for westbound air traffic from the New York metropolitan area into the Chicago O'Hare International Airport, IL, terminal area. Additionally, this action reduces ATC system complexity, air traffic controller and pilot workload, voice communication requirements, and aircraft fuel consumption. It also expands the use of RNAV within the NAS.

High altitude RNAV routes are published in paragraph 2006 of FAA Order 7400.9W dated August 8, 2012, and effective September 15, 2012, which is incorporated by reference in 14 CFR 71.1. The RNAV route listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure of RNAV routes as required to preserve the safe and efficient flow of air traffic.

Environmental Review

The FAA has determined that this action is categorically excluded from further environmental documentation according to FAA Order 1050.1E, paragraphs 311a, 311b, and 311i. The implementation of this action will not result in any extraordinary circumstances in accordance with paragraph 304 of Order 1050.1E.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, Dated August 8, 2012, and effective September 15, 2012, is amended as follows:

Paragraph 2006—United States Area Navigation Routes

* * * * *

Q-62 WATSN, IN to SARAA, PA [Amended]

WATSN, IN | FIX | (Lat. 41°17′00″ N., long. 86°02′07″ W.)
DAIFE, IN | WP | (Lat. 41°16′08″ N., long. 85°51′19″ W.)
NOLNN, OH | WP | (Lat. 41°14′04″ N., long. 84°38′12″ W.)
WEEVR, OH | WP | (Lat. 41°13′21″ N., long. 84°13′04″ W.)
PSKUR, OH | WP | (Lat. 41°09′16″ N., long. 82°42′57″ W.)
FAALS, OH | WP | (Lat. 41°02′51″ N., long. 80°52′40″ W.)
ALEEE, OH | WP | (Lat. 41°00′28″ N., long. 80°31′54″ W.)
QUARM, PA | WP | (Lat. 40°49′45″ N., long. 79°04′39″ W.)
BURNI, PA | FIX | (Lat. 40°39′25″ N., long. 77°48′14″ W.)
MCMAN, PA | FIX | (Lat. 40°38′16″ N., long. 77°34′14″ W.)
VALLO, PA | FIX | (Lat. 40°37′37″ N., long. 77°26′18″ W.)
RAVINE, PA (RAV) | VORTAC | (Lat. 40°33′12″ N., long. 76°35′58″ W.)
SUZIE, PA | FIX | (Lat. 40°27′12″ N., long. 75°58′22″ W.)
SARAA, PA | FIX | (Lat. 40°26′22″ N., long. 75°53′16″ W.)

Issued in Washington, DC, on September 11, 2012.
Gary A. Norek,
Manager, Airspace Policy and ATC Procedures Group.

[FR Doc. 2012-22802 Filed 9-14-12; 8:45 am]

BILLING CODE 4910-13-P